DEPARTMENT OF COMMERCE

National Institute of Standards and Technology

National Fire Protection Association (NFPA): Request for Comments on NFPA's Codes and Standards

AGENCY: National Institute of Standards and Technology, Commerce.

ACTION: Notice.

SUMMARY: The purpose of this notice is to request comments on the technical reports that will be published in the NFPA's 2007 Fall Revision Cycle. The publication of this notice by the National Institute of Standards and Technology (NIST) on behalf of NFPA is being undertaken as a public service; NIST does not necessarily endorse, approve, or recommend any of the standards referenced in the notice.

Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the Proposals and these Comments are published in the Report on Comments; having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline of October 19, 2007. Certified motions will be posted by November 16, 2007. Documents that receive notice of proper Amending Motions (Certified Amending Motions) will be presented for action at the annual June 2008 Association Technical Meeting. Documents that receive no motions will be forwarded directly to the Standards Council for action on issuance.

For more information on these new rules and for up-to-date information on schedules and deadlines for processing NFPA Documents, check the NFPA Web site at http://www.nfpa.org or contact NFPA Codes and Standards Administration.

The purpose of this notice is to request comments on the technical reports that will be published in the NFPA's 2007 Fall Revision Cycle. The publication of this notice by the National Institute of Standards and Technology (NIST) on behalf of NFPA is being undertaken as a public service; NIST does not necessarily endorse, approve, or recommend any of the standards referenced in the notice.

DATES: Thirty reports are published in the 2007 Fall Revision Cycle Report on Proposals and will be available on December 22, 2006. Comments received on or before March 2, 2007, will be considered by the respective NFPA Committees before final action is taken on the proposals.

ADDRESSES: The 2007 Fall Revision Cycle Report on Proposals is available and downloadable from NFPA's Web site— http://www/nfpa.org or by requesting a copy from the NFPA, Fulfillment Center, 11 Tracy Drive, Avon, Massachusetts 02322. Comments on the report should be submitted to Casey C. Grant, Secretary, Standards Council, NFPA, 1 Batterymarch Park, Quincy, Massachusetts 02269-7471.

FOR FURTHER INFORMATION CONTACT: Casey C. Grant, Secretary, Standards Council, NFPA, 1 Batterymarch Park, Quincy, Massachusetts 02269-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

Request for Comments

Interested persons may participate in these revisions by submitting written data, views, or arguments to Casey C. Grant, Secretary, Standards Council, NFPA, 1 Batterymarch Park, Quincy, Massachusetts 02269-7471. Commenters may use the forms provided for comments in the Reports on Proposals. Each person submitting a comment should include his or her name and address, identify the notice, and give reasons for any recommendations. Comments received on or before March 2, 2007 for the 2007 Fall Revision Cycle Report on Proposals will be considered by the NFPA before final action is taken on the proposals.

Copies of all written comments received and the disposition of those comments by the NFPA committees will be published as the 2007 Fall Revision Cycle Report on Comments by August 24, 2007. A copy of the Report on Comments will be sent automatically to each commenter.

2007 Fall Revision Cycle—Report on Proposals
[P=Partial revision; W=Withdrawal; R=Reconfirmation; N=New; C=Complete Revision]
NFPA 17 | Standard for Dry Chemical Extinguishing Systems | P
NFPA 17A | Standard for Wet Chemical Extinguishing Systems | P
NFPA 22 | Standard for Water Tanks for Private Fire Protection | P
NFPA 36 | Standard for Solvent Extraction Plants | P
NFPA 59 | Utility LP-Gas Plant Code | P
NFPA 75 | Standard for the Protection of Information Technology Equipment | P
NFPA 76 | Standard for the Fire Protection of Telecommunications Facilities | P
NFPA 115 | Standard for Laser Fire Protection | P
NFPA 140 | Standard on Motion Picture and Television Production Studio Soundstages and Approved Production Facilities | P
NFPA 496 | Standard for Purged and Pressurized Enclosures for Electrical Equipment | P
NFPA 497 | Recommended Practice for the Classification of Flammable Liquids, Gases, or Vapors and of Hazardous (Classified) Locations for Electrical Installations in Chemical Process Areas | P
NFPA 499 | Recommended Practice for the Classification of Combustible Dusts and of Hazardous (Classified) Locations for Electrical Installations in Chemical Process Areas | P
NFPA 720 | Standard for the Installation of Carbon Monoxide (CO) Warning Equipment in Dwelling Units | P
NFPA 730 | Guide for Premises Security | P
NFPA 731 | Standard for the Installation of Electronic Premises Security Systems | P
NFPA 801 | Standard for Fire Protection for Facilities Handling Radioactive Materials | P
NFPA 806 | Performance Based Standard for Fire Protection for Advanced Nuclear Reactor Electric Generating Plants | N
NFPA 909 | Code for the Protection of Cultural Resources Properties—Museums, Libraries, and Places of Worship | P
NFPA 921 | Guide for Fire and Explosion Investigations | P
NFPA 1006 | Standard for Rescue Technician Professional Qualifications | C
NFPA 1192 | Standard on Recreational Vehicles | P
NFPA 1194 | Standard for Recreational Vehicle Parks and Campgrounds | P
NFPA 1561 | Standard on Emergency Services Incident Management System | C
NFPA 1584 | Recommended Practice on the Rehabilitation of Members Operating at Incident Scene Operations and Training Exercises | C
NFPA 1852 | Standard on Selection, Care, and Maintenance of Open-Circuit Self-Contained Breathing Apparatus (SCBA) | C
NFPA 1925 | Standard on Marine Fire-Fighting Vessels | C
NFPA 1962 | Standard for the Inspection, Care, and Use of Fire Hose, Couplings, and Nozzles and the Service Testing of Fire Hose | P
NFPA 1964 | Standard for Spray Nozzles | P
NFPA 1989 | Standard on Breathing Air Quality for Fire and Emergency Services Respiratory Protection | C
NFPA 1999 | Standard on Protective Clothing for Emergency Medical Operations | P

Dated: October 5, 2006.
James E. Hill,
Acting Deputy Director.

[FR Doc. E6-17023 Filed 10-12-06; 8:45 am]

BILLING CODE 3510-13-P